DEPARTMENT OF HEALTH AND HUMAN SERVICES

National Institutes of Health

Government-Owned Inventions; Availability for Licensing

AGENCY: National Institutes of Health, HHS.

ACTION: Notice.

SUMMARY: The inventions listed below are owned by an agency of the U.S. Government and are available for licensing in the U.S. to achieve expeditious commercialization of results of federally-funded research and development.

FOR FURTHER INFORMATION CONTACT: Licensing information may be obtained by emailing Michael Shmilovich, shmilovm@nih.gov, the indicated licensing contact at the National Heart, Lung, and Blood, Office of Technology Transfer and Development Office of Technology Transfer, 31 Center Drive Room 4A29, MSC2479, Bethesda, MD 20892-2479; telephone: 301-402-5579. A signed Confidential Disclosure Agreement may be required to receive any unpublished information.

SUPPLEMENTARY INFORMATION: Technology description follows.

Liposome Nanodecoys That Protect Against SARS-COV-2

Available for licensing and commercial development are patent rights covering a liposomal vesicle (a “nanodecoy”) with a lipid bilayer with one or more proteins recognized by a pathogen (e.g., SARS-CoV-2) and one or more cytokine receptors (such as IL-6; receptors: CD126, CD130; IL-1; receptors: CD121a, CD121b, IL-8; receptors: IL-8RB; IL-12; receptors: CD212; TNF-α; receptors: CD120a, CD120b; IFN-γ; receptors: CD119, IFN-α/β; receptors: CD118) and wherein the liposomal vesicle is non-replicating. Nanodecoys that display angiotensin-converting enzyme 2 (ACE2) and multiple cytokine receptors, are able to sequester SARS-CoV-2 and inhibit viral replication and infection, as well as to mitigate COVID-19-induced cytokine release syndrome (CRS) in susceptible cells.

Potential Commercial Applications:

• COVID-19

• SARS-CoV-2

• Cytokine release syndrome

○ immunosuppression

• Viral inhibition

○ Receptor binding competition

Development Stage:

• Preclinical

Inventors: Xiaoyuan (Shawn) Chen (NIBIB) and Lang Rao (NIBIB).

Intellectual Property: HHS Reference No. E-144-2020-0-US-01 “Engineered Cell Membrane Nanodecoys To Protect Against COVID-19;” U.S. Provisional Patent Application 63/038,380 filed June 12, 2020.

Licensing Contact: Michael Shmilovich, Esq, CLP; 301-435-5019; shmilovm@mail.nih.gov.

Dated: June 17, 2020.
Michael A. Shmilovich,
Senior Licensing and Patenting Manager, National Heart, Lung, and Blood Institute, Office of Technology Transfer and Development.

[FR Doc. 2020-13656 Filed 6-24-20; 8:45 am]

BILLING CODE 4140-01-P